DEPARTMENT OF ENERGY

Office of Environmental Management; Environmental Management Advisory Board Meeting

AGENCY: Department of Energy.

ACTION: Notice of open meeting.

SUMMARY: This notice announces a meeting of the Environmental Management Advisory Board (EMAB). The Federal Advisory Committee Act (Pub. L. 92-463, 86 Stat. 770) requires that public notice of these meetings be announced in the Federal Register.

DATES: Thursday, September 29, 2005, 9 a.m.-5 p.m.; Friday, September 30, 2005, 9 a.m.-2 p.m.

ADDRESSES: U.S. Department of Energy, 1000 Independence Avenue, SW., Room 1E-245, Forrestal Building, Washington, DC 20585.

FOR FURTHER INFORMATION CONTACT: Terri Lamb, Executive Director of the Environmental Management Advisory Board (EM—30.1), U.S. Department of Energy, 1000 Independence Avenue, SW., Washington, DC 20585. Phone (202) 586-9007; Fax (202) 586-0293 or e-mail: terri.lamb@em.doe.gov.

SUPPLEMENTARY INFORMATION: Purpose of the Meeting: To provide the Assistant Secretary for Environmental Management with advice and recommendations on corporate issues confronting the Environmental Management Program. The Board will contribute to the effective operation of the Environmental Management Program by providing individual citizens and representatives of interested groups an opportunity to present their views on issues facing the Office of Environmental Management and by helping to secure consensus recommendations on those issues.

Tentative Agenda

Thursday, September 29, 2005

9 a.m.—Public Meeting Open, Welcome, Opening Remarks, Review of End States Issues, Roundtable Discussion.

12 p.m.—Lunch. Review of Project Management and Oversight Issues, Review of Contract Strategy and Management Issues, Roundtable Discussion.

5 p.m.—Public Comment Period and Adjournment.

Friday, September 30, 2005

9 a.m.—Opening Remarks, Board Discussion Board Business.

12 p.m.—Lunch. New Business and Set Date for Next Board Meeting.

2 p.m.—Public Comment Period and Adjournment.

Public Participation: The meeting is open to the public. Written statements may be filed with the Board either before or after the meeting. Individuals who wish to make oral statements pertaining to agenda items should contact Terri Lamb at the address or telephone number above. Requests must be received five days prior to the meeting and reasonable provision will be made to include the presentation in the agenda. Those who call in and register in advance will be given the opportunity to speak first. Others will be accommodated as time permits. The Board Chair is empowered to conduct the meeting in a fashion that will facilitate the orderly conduct of business. Individuals wishing to make public comment will be provided a maximum of five minutes to present their comments.

Minutes: The minutes of the meeting will be available for viewing and copying at the U.S. Department of Energy Freedom of Information Public Reading Room, 1E-190, Forrestal Building, 1000 Independence Avenue, SW., Washington, DC 20585 between 9 a.m. and 4 p.m., Monday-Friday except Federal holidays. Minutes will also be available by calling Terri Lamb at (202) 586-9007.

Issued in Washington, DC, on September 2, 2005.
Carol Matthews,
Acting Committee Management Officer.

[FR Doc. 05-17917 Filed 9-8-05; 8:45 am]

BILLING CODE 6450-01-P